COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List commodities and services to be furnished by nonprofit agencies employing persons who are blind or have other severe disabilities, and to delete services previously furnished by such agencies.

COMMENTS MUST BE RECEIVED ON OR BEFORE: June 4, 2001.

ADDRESSES: Committee for Purchase From People Who Are Blind or Severely Disabled, Jefferson Plaza 2, Suite 10800, 1421 Jefferson Davis Highway, Arlington, Virginia 22202-3259.

FOR FURTHER INFORMATION CONTACT: Patrick T. Mooney (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, all entities of the Federal Government (except as otherwise indicated) will be required to procure the commodities and services listed below from nonprofit agencies employing persons who are blind or have other severe disabilities. I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information. The following commodities and services have been proposed for addition to Procurement List for production by the nonprofit agencies listed:

Commodities

Flag, National, Interment

8345-00-656-1432

(An additional 20% of the Governments requirement or 360,000 flags whichever is greater)

NPA: Huntsville Rehabilitation Foundation, Huntsville, Alabama

North Bay Rehabilitation Services, Inc., Rohnert Park, California

Goodwill Industries of South Florida, Inc., Miami, Florida

Mop, Anglematic, Deluxe

M.R. 1038

NPA: The Lighthouse for the Blind, Inc., Seattle, Washington

Brush, Bowl, Toilet w/Caddie

M.R. 1047

NPA: Alabama Industries for the Blind Talladega, Alabama

Services

Base Supply Center Fort Belvoir, Virginia

NPA: Virginia Industries for the Blind Richmond, Virginia

HTML Coding of Forest Health Monitoring USDA, Forest Service, North Central Forest Experiment Station, St. Paul, Minnesota

NPA: North Central Sight Services, Inc. Williamsport, Pennsylvania

Deletions

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following services have been proposed for deletion from the Procurement List:

Services

Acquisition & Distribution of AA-Cell Batteries, Tier AD

6135-00-643-1309

Defense Supply Center—Richmond

Richmond, Virginia

Acquisition & Distribution of 6V Zinc Batteries

6135-00-643-1310

Defense Supply Center—Richmond

Richmond, Virginia

Patrick T. Mooney,
Director, Pricing and Program Operations.

[FR Doc. 01-11304 Filed 5-3-01; 8:45 am]

BILLING CODE 6353-01-P